FEDERAL COMMUNICATIONS COMMISSION

[OMB 3060-1089; FRS 16715]

Information Collections Being Reviewed by the Federal Communications Commission

AGENCY: Federal Communications Commission.

ACTION: Notice and request for comments.

SUMMARY: As part of its continuing effort to reduce paperwork burdens, and as required by the Paperwork Reduction Act (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written comments should be submitted on or before July 6, 2020. If you anticipate that you will be submitting comments, but find it difficult to do so within the period of time allowed by this notice, you should advise the contacts below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: OMB Control No.: 3060-1089.

Title: Structure and Practices of the Video Relay Service Program; Telecommunications Relay Services and Speech-to-Speech Services for Individuals with Hearing and Speech Disabilities, CG Docket Nos. 10-51 & 03-123.

Form No.: N/A.

Type of Review: Revision of a currently approved collection.

Respondents: Business or other for-profit entities; Individuals or households; Not-for-profit institutions; State, Local or Tribal Government.

Number of Respondents and Responses: 202,021 respondents; 1,846,406 responses.

Estimated Time per Response: .05 hours (3 minutes) to 300 hours.

Frequency of Response: Annual, monthly, on occasion, on-going, one-time, and quarterly reporting requirements; Recordkeeping requirement; and Third-Party Disclosure requirements.

Obligation to Respond: Required to obtain or retain benefits. The statutory authority for the collection is contained in section 225 of the Communications Act, 47 U.S.C. 225. The law was enacted on July 26, 1990, as Title IV of the Americans with Disabilities Act of 1990 (ADA), Public Law 101-336, 104 Stat. 327, 366-69, and amended by the Twenty-First Century Communications and Video Accessibility Act of 2010, Public Law 111-260, 103(a), 124 Stat. 2751, 2755 (2010) (CVAA); Public Law 111-265 (technical amendments to CVAA).

Total Annual Burden: 329,582 hours.

Annual Cost Burden: $261,000.

Nature and Extent of Confidentiality: Confidentiality is an issue to the extent that individuals and households provide personally identifiable information, which is covered under the FCC's updated system of records notice (SORN), FCC/CGB-4, “Internet-based Telecommunications Relay Service-User Registration Database (ITRS-URD).” As required by the Privacy Act, 5 U.S.C. 552a, the Commission also published a SORN, FCC/CGB-4 “Internet-based Telecommunications Relay Service-User Registration Database (ITRS-URD),” in the Federal Register on February 9, 2015 (80 FR 6963) which became effective on March 23, 2015.

Privacy Act Impact Assessment: This information collection affects individuals or households. As required by the Office of Management and Budget Memorandum M-03-22 (September 26, 2003), the FCC is in the process of completing the Privacy Impact Assessment.

Needs and Uses: The telecommunications relay service (TRS) program enables access to the nation's telephone network by persons with hearing and speech disabilities. In 1991, as required by the Americans with Disabilities Act and codified at 47 U.S.C. 225, the Commission adopted rules governing the telecommunications relay services (TRS) program and procedures for each state TRS program to apply for initial Commission certification and renewal of Commission certification of each state program. Telecommunications Services for Individuals with Hearing and Speech Disabilities, and the Americans with Disabilities Act of 1990, Report and Order and Request for Comments, document FCC 91-213, published at 56 FR 36729, August 1, 1991 (1991 TRS Implementation Order).

Between 2008 and 2011, to integrate internet-based TRS into the North American Numbering plan and facilitate interoperability, universal calling, and 911 emergency services, the Commission adopted rules in three separate orders related to the telephone numbering system and enhanced 911 (E911) services for users of two forms of internet-based TRS: Video Relay Service (VRS) and internet Protocol Relay service (IP Relay). See document FCC 08-151, Report and Order and Further Notice of Proposed Rulemaking, published at 73 FR 41286, July 18, 2008 (First Numbering Order); document FCC 08-275, Second Report and Order and Order on Reconsideration, published at 73 FR 79683, December 30, 2008 (Second Numbering Order); and document FCC 11-123, Report and Order, published at 76 FR 59551, September 27, 2011 (iTRS Toll Free Order).

The rules adopted in these three orders have information collection requirements that include requiring VRS and IP Relay providers to: Register each user who selects the provider as his or her default provider, including obtaining a self-certification from each user; verify the accuracy of each user's; provision and maintain their registered users' routing information to the TRS Numbering Directory; place their users' Registered Location and certain callback information in Automatic Location Information (ALI) databases across the country and provide a means for their users to update their Registered Locations; include advisories on their websites and in any promotional materials addressing numbering and E911 services for VRS or IP Relay; verify in the TRS Numbering Directory whether each dial-around user is registered with another provider; and if they provide equipment to a consumer, make available to other VRS providers enough information about that equipment to enable another VRS provider selected as the consumer's default provider to perform all of the functions of a default provider.

On July 28, 2011, the Commission released Structure and Practices of the Video Relay Service Program, document FCC 11-118, published at 76 FR 47469, August 5, 2011, and at 76 FR 47476, August 5, 2011 (VRS Certification Order), adopting final and interim rules—designed to help prevent waste, fraud, and abuse, and ensure quality service, in the provision of internet-based forms of Telecommunications Relay Services (iTRS). On October 17, 2011, the Commission released Structure and Practices of the Video Relay Service Program, Memorandum Opinion and Order, Order, and Further Notice of Proposed Rulemaking, document FCC 11-155, published at 76 FR 67070, October 31, 2011 (VRS Certification Reconsideration Order), modifying two aspects of information collection requirements contained in the VRS Certification Order. On June 10, 2013, the Commission made permanent the interim rule adopted in the VRS Certification Order. Structure and Practices of the Video Relay Service Program; Telecommunications Relay Services and Speech-to-Speech Services for Individuals with Hearing and Speech Disabilities, Report and Order and Further Notice of Proposed Rulemaking, document FCC 13-82, published at 78 FR 40582, July 5, 2013 (2013 VRS Reform Order).

The VRS Certification Order as modified by the VRS Certification Reconsideration and, as applicable, made permanent by the (2013 VRS Reform Order), amended the Commission's process for certifying internet-based TRS (iTRS) providers as eligible for payment from the Interstate TRS Fund (Fund) for their provision of iTRS to ensure that iTRS providers receiving certification are qualified to provide iTRS in compliance with the Commission's rules and to eliminate waste, fraud and abuse through improved oversight of such providers. They contain information collection requirements including: Submission of detailed information in an application for certification that shows the applicant's ability to comply with the Commission's rules; submission of annual reports that include updates to the provider's information on file with the Commission or a certification that there are no changes to the information; requirements for a senior executive of an applicant for iTRS certification or an iTRS provider, when submitting an annual compliance report, to certify under penalty of perjury that all information required under the Commission's rules and orders has been provided and all statements of fact, as well as all documentation contained in the submission, are true, accurate, and complete; requirements for VRS providers to obtain prior authorization from the Commission for planned interruptions of service, to report to the Commission unforeseen interruptions of service, and to provide notification of temporary service outages, including updates, to consumers on their websites; and requirements for iTRS providers that will no longer be providing service to give their customers at least 30-days notice.

In the 2013 VRS Reform Order, the Commission also adopted further measures to improve the structure, efficiency, and quality of the video relay service (VRS) program, reducing the noted inefficiencies in the program, as well as reducing the risk of waste, fraud, and abuse, and ensuring that the program makes full use of advances in commercially-available technology. The Commission required reporting of unauthorized and unnecessary us of VRS; established a central telecommunications relay services (TRS) user registration database (TRS-URD) for VRS, which incorporates a centralized eligibility verification requirement to ensure accurate registration and verification of users, as well as per-call validation, to achieve more effective prevention of waste, fraud, and abuse; established procedures to prevent unauthorized changes of a user's default TRS provider; and established procedures to protect TRS users' customer proprietary network information (CPNI) from disclosure.

On March 23, 2017, the Commission released Structure and Practices of the Video Relay Services Program et al., FCC 17-26, published at 82 FR 17754, April 13, 2017 (2017 VRS Improvements Order), which among other things, allows VRS providers to assign TRS Numbering Directory 10-digit telephone numbers to hearing individuals for the limited purpose of making point-to-pint video calls, and gives VRS providers the option to participate in an at-home call handling pilot program, subject to certain limitations, as well as recordkeeping and reporting requirements.

On May 15, 2019, the Commission released Structure and Practices of the Video Relay Service Program; Telecommunications Relay Services and Speech-to-Speech Services for Individuals with Hearing and Speech Disabilities, FCC 19-39, published at 84 FR 26364, June 6, 2019 (2019 VRS Program Management Order). The Commission further improved the structure, efficiency, and quality of the VRS program, reduced the risk of waste, fraud, and abuse, and ensured that the program makes full use of advances in commercially-available technology. These improvements include information collection requirements, including: The establishment of procedures to register enterprise and public videophones to the TRS-URD; and permitting Qualified Direct Video Calling (DVC) Entities to access the TRS Numbering Directory and establishing an application procedure to authorize such access, including rules governing DVC entities and entry of information in the TRS Numbering Directory and the TRS-URD.

On August 2, 2019, the Commission released Implementing Kari's Law and Section 506 of RAY BAUM's Act; Inquiry Concerning 911 Access, Routing, and Location in Enterprise Communications Systems; Amending the Definition of Interconnected VoIP Service in Section 9.3 of the Commission's Rules, FCC 19-76, published at 84 FR 66716, December 5, 2019 (MLTS 911 and Dispatchable Location Order). The Commission amended its rules to ensure that the dispatchable location is conveyed to a Public Safety Answering Point (PSAP) with a 911 call, regardless of the technological platform used. Based on the directive in section 506 of RAY BAUM'S Act, the Commission adopted dispatchable location requirements that in effect modified the existing information collection requirements applicable to VRS, IP Relay and covered IP CTS by improving the options for providing accurate location information to PSAPs as part of 911 calls.

Fixed internet-based TRS devices must provide automated dispatchable location. For non-fixed devices, when dispatchable location is not technically feasible, internet-based TRS providers may fall back to Registered Location or provide alternative location information. As a last resort, internet-based providers may route calls to Emergency Relay Calling Centers. after making a good faith effort to obtain location data from all available alternative location sources. Dispatchable location means a location delivered to the PSAP with a 911 call that consists of the validated street address of the calling party, plus additional information such as suite, apartment or similar information necessary to adequately identify the location of the calling party. Automated dispatchable location means automatic generation of dispatchable location. Alternative location information is location information (which may be coordinate-based) sufficient to identify the caller's civic address and approximate in-building location, including floor level, in large buildings.

On January 31, 2020, the Commission released Structure and Practices of the Video Relay Service Program; Telecommunications Relay Services and Speech-to-Speech Services for Individuals with Hearing and Speech Disabilities, FCC 20-7 (VRS At-Home Call Handling Order). The Commission amended its rules to convert the VRS at-home call handling pilot program into a permanent one, thereby allowing CAs to work from home. To ensure user privacy and call confidentiality and to help prevent waste, fraud, and abuse, the modified information collections include requirements for VRS providers to apply for certification to allow their communications assistants to handle calls while working at home; monitoring and oversight requirements; and reporting requirements.

Federal Communications Commission.
Marlene Dortch,
Secretary, Office of the Secretary.

[FR Doc. 2020-09621 Filed 5-5-20; 8:45 am]

BILLING CODE 6712-01-P